NUCLEAR REGULATORY COMMISSION

[NRC-2024-0025]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by February 22, 2024. A request for a hearing or petitions for leave to intervene must be filed by March 25, 2024. This monthly notice includes all amendments issued, or proposed to be issued, from December 8, 2023, to January 4, 2024. The last monthly notice was published on December 26, 2023.

ADDRESSES: You may submit comments by any of the following methods however, the NRC encourages electronic comment submission through the Federal rulemaking website:

• Federal rulemaking website: Go to https://www.regulations.gov and search for Docket ID NRC-2024-0025. Address questions about Docket IDs in Regulations.gov to Stacy Schumann; telephone: 301-415-0624; email: Stacy.Schumann@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kay Goldstein, Office of Nuclear Reactor Regulation, U.S. Nuclear Regulatory Commission, Washington, DC 20555-0001, telephone: 301-415-1506; email: Kay.Goldstein@nrc.gov.

SUPPLEMENTARY INFORMATION:

I. Obtaining Information and Submitting Comments

A. Obtaining Information

Please refer to Docket ID NRC-2024-0025, facility name, unit number(s), docket number(s), application date, and subject when contacting the NRC about the availability of information for this action. You may obtain publicly available information related to this action by any of the following methods:

• Federal Rulemaking website: Go to https://www.regulations.gov and search for Docket ID NRC-2024-0025.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0025, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056 and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
| 50-395
Dominion Energy South Carolina, Inc.; Virgil C. Summer Nuclear Station, Unit 1, Fairfield County, SC
Docket No(s) | 50-395.
Application date | November 9, 2023, as supplemented by letter dated November 28, 2023.
ADAMS Accession No. | ML23317A224, ML23332A194.
Location in Application of NSHC | Pages 27-29 of Attachment 1.
Brief Description of Amendment(s) | The proposed amendment would modify the Virgil C. Summer Nuclear Station (VCSNS) Technical Specification (TS) Limiting Condition for Operation (LCO) 3.8.3.1, Action C, concerning inoperable Alternating Current Inverters of TS 3/4.8.3. The proposed license amendment would extend the Allowed Outage Time for VCSNS's TS LCO 3.8.3.1 Action C in the case of an inoperable inverter.
Proposed Determination | NSHC.
Name of Attorney for Licensee, Mailing Address | W. S. Blair, Senior Counsel, Dominion Energy Services, Inc., 120 Tredegar St., RS-2, Richmond, VA 23219.
NRC Project Manager, Telephone Number | G. Ed Miller, 301-415-2481.
Duke Energy Carolinas, LLC; Oconee Nuclear Station, Units 1, 2, and 3; Oconee County, SC
Docket No(s) | 50-269, 50-270, 50-287.
Application date | November 16, 2023.
ADAMS Accession No | ML23320A111.
Location in Application of NSHC | Pages 181-183 of the Enclosure.
Brief Description of Amendment(s) | The proposed amendments would revise Technical Specification 5.5.2, “Containment Leakage Rate Testing Program” for a one-time extension of the Units 1, 2, and 3 Type A Leak Rate Test frequency.
Proposed Determination | NSHC.
Name of Attorney for Licensee, Mailing Address | Tracey Mitchell LeRoy, Deputy General Counsel, Duke Energy Corporation, 4720 Piedmont Row Dr., Charlotte, NC 28210.
NRC Project Manager, Telephone Number | Jack Minzer Bryant, 301-415-0610.
Florida Power & Light Company; Turkey Point Nuclear Generating Unit Nos. 3 and 4; Miami-Dade County, FL
Docket No(s) | 50-250, 50-251.
Application date | October 11, 2023.
ADAMS Accession No | ML23285A035.
Location in Application of NSHC | Pages 12-14 of Enclosure 1.
Brief Description of Amendment(s) | The proposed amendments would revise the Turkey Point technical specifications (TS) by incorporating changes to TS 3.7.13, “Fuel Storage Pool Boron Concentration,” TS 3.7.14, “Spent Fuel Storage,” and TS 4.3, “Fuel Storage” to allow for an updated spent fuel pool criticality safety analysis which accounts for the impact on the spent fuel from a proposed transition to 24-month fuel cycles.
Proposed Determination | NSHC.
Name of Attorney for Licensee, Mailing Address | Steven Hamrick, Senior Attorney 801 Pennsylvania Ave., NW, Suite 220 Washington, DC 20004.
NRC Project Manager, Telephone Number | Michael Mahoney, 301-415-3867
Northern States Power Company—Minnesota; Prairie Island Nuclear Generating Plant, Unit Nos. 1 and 2; Goodhue County, MN
Docket No(s) | 50-282, 50-306.
Application date | September 28, 2023, as supplemented by letter dated December 5, 2023.
ADAMS Accession No | ML23271A205, ML23339A060.
Location in Application of NSHC | Pages 5-6 of the Enclosure.
Brief Description of Amendment(s) | The proposed amendments would revise Technical Specification 3.8.1, “AC Sources-Operating,” and Surveillance Requirement 3.8.1.2, Note 3, to remove details of a modified diesel generator start.
Proposed Determination | NSHC.
Name of Attorney for Licensee, Mailing Address | Peter M. Glass, Assistant General Counsel, Xcel Energy, 414 Nicollet Mall—401-8, Minneapolis, MN 55401.
NRC Project Manager, Telephone Number | Brent Ballard, 301-415-0680.
Northern States Power Company; Monticello Nuclear Generating Plant; Wright County, MN
Docket No(s) | 50-263.
Application date | November 10, 2023.
ADAMS Accession No | ML23317A122.
Location in Application of NSHC | Pages 7-9 of the Enclosure.
Brief Description of Amendment(s) | The proposed amendment would revise Technical Specification 3.8.6, “Battery Parameters,” and Surveillance Requirement 3.8.6.6, “Acceptance criteria” for the battery capacity of the 125-volt direct current batteries.
Proposed Determination | NSHC.
Name of Attorney for Licensee, Mailing Address | Peter M. Glass, Assistant General Counsel, Xcel Energy, 414 Nicollet Mall—401-8, Minneapolis, MN 55401.
NRC Project Manager, Telephone Number | Brent Ballard, 301-415-0680.
Susquehanna Nuclear, LLC and Allegheny Electric Cooperative, Inc.; Susquehanna Steam Electric Station, Units 1 and 2; Luzerne County, PA
Docket No(s) | 50-387, 50-388.
Application date | November 2, 2023.
ADAMS Accession No | ML23306A198.
Location in Application of NSHC | Pages 3-5 of Enclosure 1.
Brief Description of Amendment(s) | The proposed amendments would revise the technical specifications by adopting TSTF [Technical Specification Task Force]-563, “Revise Instrument Testing Definitions to Incorporate the Surveillance Frequency Control Program” (ML17130A819), with plant specific variations.
Proposed Determination | NSHC.
Name of Attorney for Licensee, Mailing Address | Damon D. Obie, Esq, 1780 Hughes Landing Blvd., Suite 800, The Woodlands, TX 77380.
NRC Project Manager, Telephone Number | Audrey Klett, 301-415-0489.
Susquehanna Nuclear, LLC and Allegheny Electric Cooperative, Inc.; Susquehanna Steam Electric Station, Units 1 and 2; Luzerne County, PA
Docket No(s) | 50-387, 50-388.
Application date | November 29, 2023.
ADAMS Accession No | ML23333A214.
Location in Application of NSHC | Pages 2 and 3 of Enclosure 1.
Brief Description of Amendment(s) | The proposed amendments would revise the technical specifications (TS) by adopting TSTF [Technical Specification Task Force]-568, “Revise Applicability of BWR [Boiling Water Reactor]/4 TS 3.6.2.5 and TS 3.6.3.2” (ML19141A122), with plant-specific variations.
Proposed Determination | NSHC.
Name of Attorney for Licensee, Mailing Address | Damon D. Obie, Esq, 1780 Hughes Landing Blvd., Suite 800, The Woodlands, TX 77380.
NRC Project Manager, Telephone Number | Audrey Klett, 301-415-0489.
Wolf Creek Nuclear Operating Corporation; Wolf Creek Generating Station, Unit 1; Coffey County, KS
Docket No(s) | 50-482.
Application date | November 16, 2023.
ADAMS Accession No | ML23320A277.
Location in Application of NSHC | Pages 7-8 of Attachment I.
Brief Description of Amendment(s) | The proposed amendment would revise the ventilation filter testing program in the technical specifications (TS) 5.5.11.b and correct an administrative error in TS 5.5.11.b, 5.5.11.c, 5.5.11.d, and 5.5.11.f by changing the word absorber to adsorber.
Proposed Determination | NSHC.
Name of Attorney for Licensee, Mailing Address | Chris Johnson, Corporate Counsel Director, Evergy, One Kansas City Place, 1K-Missouri HQ 16, 1200 Main Street, Kansas City, MO 64105.
NRC Project Manager, Telephone Number | Samson Lee, 301-415-3168.

III. Notices of Issuances of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Constellation Energy Generation, LLC; Braidwood Station, Units 1 and 2, Will County, IL; Byron Station, Unit Nos. 1 and 2, Ogle County, IL
Docket No(s) | 50-454, 50-455, 50-456, 50-457.
Amendment Date | December 11, 2023.
ADAMS Accession No | ML23277A003.
Amendment No(s) | Braidwood 234 (Unit 1), 234 (Unit 2); Byron 234 (Unit 1), 234 (Unit 2).
Brief Description of Amendment(s) | The amendments changed the Completion Time (CT) of Required Action B.1 in Technical Specification (TS) 3.5.1, “Accumulators,” from 1 hour to 24 hours. The changes are consistent with Technical Specification Task Force (TSTF) Traveler TSTF-370, “Increase Accumulator Completion Time From 1 Hour to 24 Hours”; (ML003771348). A model safety evaluation relating to this TS improvement was published for comment in the Federal Register on July 15, 2002 (67 FR 46542), and a model application was published on March 12, 2003 (68 FR 11880), as part of the Consolidated Line Item Improvement Process.
Public Comments Received as to Proposed NSHC (Yes/No) | No.
Constellation Energy Generation, LLC; Calvert Cliffs Nuclear Power Plant, Unit 1; Calvert County, MD
Docket No(s) | 50-317.
Amendment Date | January 2, 2024.
ADAMS Accession No | ML23304A064.
Amendment No(s) | 349.
Brief Description of Amendment(s) | The amendment revised the Calvert Cliffs Nuclear Plant, Unit 1, licensing basis by modifying the long-term coupon surveillance program (ML082180478), previously approved by NRC staff. The changes include revising the weight change acceptance criteria to less than 38 percent change in weight for two coupons in a packet sample location (combined weight of upper and lower coupon by location) compared to the baseline, modifying the visual examination criteria to exclude degradation from packet configuration-related erosion and clarifying the areal density testing frequency and associated corrective actions.
Public Comments Received as to Proposed NSHC (Yes/No) | No.
Constellation Energy Generation, LLC; Clinton Power Station, Unit No. 1; DeWitt County, IL; Constellation Energy Generation, LLC; Dresden Nuclear Power Station, Units 2 and 3; Grundy County, IL; Constellation Energy Generation, LLC; LaSalle County Station, Units 1 and 2; LaSalle County, IL; Constellation Energy Generation, LLC; Peach Bottom Atomic Power Station, Units 2 and 3; York County, PA; Constellation Energy Generation, LLC; Quad Cities Nuclear Power Station, Units 1 and 2; Rock Island County, IL; Nine Mile Point Nuclear Station, LLC and Constellation Energy Generation, LLC; Nine Mile Point Nuclear Station, Unit 2; Oswego County, NY
Docket No(s) | 50-461, 50-237, 50-249, 50-373, 50-374, 50-410, 50-277, 50-278, 50-254, 50-265.
Amendment Date | December 13, 2023.
ADAMS Accession No | ML23305A140.
Amendment No(s) | Clinton—251; Dresden—283 (Unit 2), 276 (Unit 3); LaSalle—261 (Unit 1), 246 (Unit 2); Nine Mile Point—195 (Unit 2); Peach Bottom—344 (Unit 2), 347 (Unit 3); Quad Cities—297 (Unit 1), 293 (Unit 2).
Brief Description of Amendment(s) | The amendments revised the technical specifications (TS) for each facility in accordance with Technical Specifications Task Force (TSTF) Traveler TSTF-580, Revision 1, “Provide Exception from Entering Mode 4 With No Operable [Residual Heat Removal] RHR Shutdown Cooling” (ML21025A232). Specifically, the proposed changes provide a TS exception to entering Mode 4 if both required RHR shutdown cooling subsystems are inoperable. By letter dated October 20, 2023, the licensee withdrew its request to adopt TSTF-580 for the James A. FitzPatrick Nuclear Power Plant (ML23293A103).
Public Comments Received as to Proposed NSHC (Yes/No) | No.
Constellation Energy Generation, LLC; Limerick Generating Station, Units 1 and 2; Montgomery County, PA
Docket No(s) | 50-352, 50-353.
Amendment Date | December 14, 2023.
ADAMS Accession No | ML23321A236.
Amendment No(s) | 262 (Unit 1), 224 (Unit 2).
Brief Description of Amendment(s) | The amendments revised and added technical specifications for the control room emergency fresh air supply and air conditioning systems, consistent with Technical Specifications Task Force Traveler 477, Revision 3 (ML062510321), with plant-specific variations.
Public Comments Received as to Proposed NSHC (Yes/No) | No.
DTE Electric Company; Fermi, Unit 2; Monroe County, MI
Docket No(s) | 50-341.
Amendment Date | December 8, 2023.
ADAMS Accession No | ML23310A149.
Amendment No(s) | 227.
Brief Description of Amendment(s) | The amendment modified the Fermi 2 technical specification (TS) to revise the emergency diesel generator steady state frequency and voltage values in the Surveillance Requirements (SRs) for TS 3.8.1, “AC Sources—Operating.” Specifically, the proposed TS changes lowered the upper bound of the SR steady state voltage, lowered the upper bound of the SR steady state frequency, and raised the lower bound of the SR steady state frequency.
Public Comments Received as to Proposed NSHC (Yes/No) | No.
Energy Northwest; Columbia Generating Station; Benton County, WA
Docket No(s) | 50-397.
Amendment Date | December 7, 2023.
ADAMS Accession No | ML23288A000.
Amendment No(s) | 272.
Brief Description of Amendment(s) | The amendment revised certain Surveillance Requirements (SRs) to add exceptions that consider the SR to be met when automatic valves or dampers are locked, sealed, or otherwise secured in the actuated position. The revisions are consistent with Technical Specifications Task Force Traveler 541, Revision 2, “Add Exceptions to Surveillance Requirements for Valves and Dampers Locked in the Actuated Position.”
Public Comments Received as to Proposed NSHC (Yes/No) | No.
Holtec Decommissioning International, LLC; Palisades Nuclear Plant; Van Buren County, MI
Docket No(s) | 50-255.
Amendment Date | December 27, 2023.
ADAMS Accession No | ML23236A004.
Amendment No(s) | 274.
Brief Description of Amendment(s) | The amendment revised the Palisades Nuclear Plant Post-Shutdown Emergency Plan and emergency action level scheme to reflect the permanently defueled condition following a sufficient decay of the spent fuel, such that the risk of an offsite radiological release is significantly lower and the types of possible accidents are significantly fewer.
Public Comments Received as to Proposed NSHC (Yes/No) | No.
Holtec Decommissioning International, LLC and Holtec Indian Point 2, LLC; Indian Point Station Unit No. 2; Westchester County, NY
Docket No(s) | 50-247.
Amendment Date | November 16, 2023.
ADAMS Accession No | ML23050A003.
Amendment No(s) | 297 (Unit 2).
Brief Description of Amendment(s) | The amendment revised the license and technical specifications to reflect the removal of all spent nuclear fuel from the Indian Point Nuclear Generating Unit 2 spent fuel pit (SFP) and its transfer to dry cask storage within an onsite independent spent fuel storage installation (ISFSI). These changes reflect the permanently shut down status of the decommissioning facility, as well as the reduced scope of structures, systems, and components necessary to ensure plant safety now that all spent fuel has been permanently moved to the Indian Point Energy Center ISFSI.
Public Comments Received as to Proposed NSHC (Yes/No) | No.
Holtec Decommissioning International, LLC, Holtec Indian Point 2, LLC, and Holtec Indian Point 3, LLC; Indian Point Station Unit Nos. 1, 2 and 3; Westchester County, NY
Docket No(s) | 50-247, 50-003, 50-286.
Amendment Date | November 13, 2023.
ADAMS Accession No | ML23064A000.
Amendment No(s) | 65 (Unit 1), 296 (Unit 2), 273 (Unit 3).
Brief Description of Amendment(s) | The amendments revised the site emergency plan and emergency action level scheme to address the permanently defueled condition of Indian Point Energy Center.
Public Comments Received as to Proposed NSHC (Yes/No) | No.
Holtec Decommissioning International, LLC, Holtec Indian Point 2, LLC, and Holtec Indian Point 3, LLC; Indian Point Station Unit Nos. 1, 2 and 3; Westchester County, NY
Docket No(s) | 50-003, 50-247, 50-286.
Amendment Date | November 17, 2023.
ADAMS Accession No | ML23100A117.
Amendment No(s) | 66 (Unit 1), 298 (Unit 2), 274 (Unit 3).
Brief Description of Amendment(s) | The amendments approved the removal of the Cyber Security Plan Licensing Condition at Indian Point Energy Center.
Public Comments Received as to Proposed NSHC (Yes/No) | No.
Holtec Decommissioning International, LLC, Holtec Indian Point 2, LLC, and Holtec Indian Point 3, LLC; Indian Point Station Unit Nos. 1, 2 and 3; Westchester County, NY
Docket No(s) | 50-247, 50-286.
Amendment Date | November 29, 2023.
ADAMS Accession No | ML23242A277.
Amendment No(s) | 299 (Unit 2), 275 (Unit 3).
Brief Description of Amendment(s) | The amendments approved the revision of Indian Point Unit 2 and Unit 3 technical specifications and modified Staffing Requirements following permanent transfer of all spent fuel to dry storage. This includes prohibiting the transfer of Indian Point Nuclear Generating Unit No. 2 (IP2) and 3 (IP3) spent fuels to the IP2 or IP3 spent fuel pit.
Public Comments Received as to Proposed NSHC (Yes/No) | No.
Holtec Decommissioning International, LLC, Holtec Indian Point 2, LLC, and Holtec Indian Point 3, LLC; Indian Point Station Unit Nos. 1, 2 and 3; Westchester County, NY
Docket No(s) | 50-003, 50-247, 50-286.
Amendment Date | December 5, 2023.
ADAMS Accession No | ML23326A132.
Amendment No(s) | 67 (Unit 1), 300 (Unit 2), 276 (Unit 3).
Brief Description of Amendment(s) | The amendments revised the Indian Point Energy Center (IPEC) Emergency Plan to reflect the requirements associated with emergency preparedness necessary for the independent spent fuel storage installation (ISFSI) only configuration, consistent with the permanent removal of all spent fuel from the IPEC spent fuel pool.
Public Comments Received as to Proposed NSHC (Yes/No) | No.
Holtec Decommissioning International, LLC, Holtec Indian Point 2, LLC, and Holtec Indian Point 3, LLC; Indian Point Station Unit Nos. 1, 2 and 3; Westchester County, NY
Docket No(s) | 50-003, 50-247, 50-286.
Amendment Date | December 5, 2023.
ADAMS Accession No | ML23339A044.
Amendment No(s) | 68 (Unit 1), 301 (Unit 2), 277 (Unit 3).
Brief Description of Amendment(s) | The amendments revised the Holtec Decommissioning International, LLC (HDI) Physical Security Plan to reflect the requirements associated with the security changes for the independent spent fuel storage installation only configuration, consistent with the permanent removal of all spent fuel from the Indian Point Energy Center spent fuel pool.
Public Comments Received as to Proposed NSHC (Yes/No) | No.
Nebraska Public Power District; Cooper Nuclear Station; Nemaha County, NE
Docket No(s) | 50-298.
Amendment Date | January 3, 2024.
ADAMS Accession No | ML23334A201.
Amendment No(s) | 274.
Brief Description of Amendment(s) | The amendment adopted Technical Specifications Task Force (TSTF) Traveler TSTF-551, Revision 3, “Revise Secondary Containment Surveillance Requirements.” Specifically, the amendment revised Technical Specification 3.6.4.1, “Secondary Containment,” surveillance requirements (SRs) to allow the secondary containment vacuum limit to not be met provided that the standby gas treatment system remains capable of establishing the required secondary containment vacuum, and revised the SR to permit secondary containment access opening to be open to permit entry and exit.
Public Comments Received as to Proposed NSHC (Yes/No) | No.
NextEra Energy Seabrook, LLC; Seabrook Station, Unit No. 1; Rockingham County, NH
Docket No(s) | 50-443.
Amendment Date | December 22, 2023.
ADAMS Accession No | ML23312A182.
Amendment No(s) | 172.
Brief Description of Amendment(s) | The amendment modified the Seabrook Station, Unit No. 1, TS (Technical Specification) 3/4.7.4, “Service Water System/Ultimate Heat Sink,” by increasing the allowable outage time for one inoperable cooling tower service water loop or one cooling tower cell. Additionally, the amendment made an editorial correction to TS Section 1.9.
Public Comments Received as to Proposed NSHC (Yes/No) | No.
Nine Mile Point Nuclear Station, LLC and Constellation Energy Generation, LLC; Nine Mile Point Nuclear Station, Unit 1; Oswego County, NY
Docket No(s) | 50-220.
Amendment Date | December 7, 2023.
ADAMS Accession No | ML23291A464.
Amendment No(s) | 251.
Brief Description of Amendment(s) | The amendment revised the Nine Mile Point Nuclear Station, Unit 1, Renewed Facility Operating License No. DPR-63 to add a new license condition to allow for the implementation of 10 CFR 50.69, “Risk-informed categorization and treatment of structures, systems and components for nuclear power reactors.”
Public Comments Received as to Proposed NSHC (Yes/No) | No.
Southern Nuclear Operating Company, Inc.; Vogtle Electric Generating Plant, Units 1 and 2; Burke County, GA
Docket No(s) | 50-424, 50-425.
Amendment Date | December 22, 2023.
ADAMS Accession No | ML23317A207.
Amendment No(s) | 223 (Unit 1), 206 (Unit 2).
Brief Description of Amendment(s) | The amendments revised Technical Specification (TS) 2.1.1, “Reactor Coolant Safety Limits,” TS 3.3.1, “Reactor Trip System (RTS) Instrumentation,” TS 3.4.1, “Reactor Coolant System (RCS) Pressure, Temperature, and Flow Departure from Nucleate Boiling (DNB) Limits,” and TS 5.6.5, “Core Operating Limits Report (COLR),” to adopt most of the TS and COLR changes described in Appendix A and Appendix B of Westinghouse topical report WCAP-14483-A, to relocate several cycle-specific parameter limits from the TS to the COLR. The amendments follow the guidance of technical specification task force (TSTF) change traveler TSTF-339-A, Revision 2. Along with the parameter relocations, the amendments also modify the Vogtle, Units 1 and 2, TS 5.6.5, to include WCAP-8745-P-A and WCAP-11397-P-A, and to revise the TS applicability for the WCAP-9272-P-A, in the list of the NRC approved methodologies used to develop the cycle-specific COLR. In addition, the amendments revise an error to the TS 3.3.1 depiction of an equation.
Public Comments Received as to Proposed NSHC (Yes/No) | No.
Southern Nuclear Operating Company, Inc.; Vogtle Electric Generating Plant, Units 3 and 4; Burke County, GA
Docket No(s) | 52-025, 52-026.
Amendment Date | December 19, 2023.
ADAMS Accession No | ML23353A170.
Amendment No(s) | 197 (Unit 3), 193 (Unit 4).
Brief Description of Amendment(s) | The amendments changed the combined license (COL) Appendix A, Technical Specifications (TS) designated by Southern Nuclear Operating Company as License Amendment Request (LAR) 22-002. The amendments changed the Vogtle Electric Generating Plant (VEGP), Units 3 and 4, COL Appendix A, TS, specifically to revise the VEGP, Units 3 and 4, COL Appendix A, TS 3.8.3, “Inverters—Operating,” to extend the completion time for Required Action A.1 from 24 hours to 14 days. There is an additional unrelated change to correct a misspelling in VEGP, Units 3 and 4, TS 3.3.9, “Engineered Safety Feature Actuation System (ESFAS) Manual Initiation.”
Public Comments Received as to Proposed NSHC (Yes/No) | No.
Southern Nuclear Operating Company, Inc.; Vogtle Electric Generating Plant, Units 3 and 4; Burke County, GA
Docket No(s) | 52-025, 52-026.
Amendment Date | November 28, 2023.
ADAMS Accession No | ML23326A154 (Package).
Amendment No(s) | 195 (Unit 3), 192 (Unit 4).
Brief Description of Amendment(s) | The amendments changed combined license (COL) Appendix A, Technical Specifications (TS), designated by Southern Nuclear Operating Company as License Amendment Request 23-006R1 in its application dated May 17, 2023. The amendments involve changes to the VEGP, Units 3 and 4, COL Appendix A, to revise TS 3.1.9, Required Action B.1 to impose a more restrictive action and add an allowance (a note) for separate TS Condition entry along with associated clarifying and consistency changes in that TS section.
Public Comments Received as to Proposed NSHC (Yes/No) | No.
Vistra Operations Company LLC; Comanche Peak Nuclear Power Plant, Unit Nos. 1 and 2; Somervell County, TX
Docket No(s) | 50-445, 50-446.
Amendment Date | December 20, 2023.
ADAMS Accession No | ML23319A387.
Amendment No(s) | 185 (Unit 1) and 185 (Unit 2).
Brief Description of Amendment(s) | The amendments revised the technical specifications (TSs) to adopt WCAP-16996-P-A, Revision 1, “Realistic LOCA [Loss-of-Coolant Accident] Evaluation Methodology Applied to the Full Spectrum of Break Sizes (FULL SPECTRUM LOCA Methodology) (FSLOCA); revised the TS reactor core safety limit to reflect the peak fuel centerline melt temperature specified in WCAP-17642-P-A, Revision 1, “Westinghouse Performance Analysis and Design Model (PAD5)”; and revised the TS reactor core fuel assemblies design feature by removing the discussion of Zircalloy fuel rods and ZIRLO lead test assemblies.
Public Comments Received as to Proposed NSHC (Yes/No) | No.

IV. Notice of Issuances of Amendments to Facility Operating Licenses and Combined Licenses and Final Determination of No Significant Hazards Consideration and Opportunity for a Hearing (Exigent Circumstances or Emergency Situation)

Since publication of the last monthly notice, the Commission has issued the following amendment. The Commission has determined for this amendment that the application for the amendment complies with the standards and requirements of the Atomic Energy Act of 1954, as amended (the Act), and the Commission's rules and regulations. The Commission has made appropriate findings as required by the Act and the Commission's rules and regulations in 10 CFR chapter I, which are set forth in the license amendment.

Because of exigent circumstances or emergency situation associated with the date the amendment was needed, there was not time for the Commission to publish, for public comment before issuance, its usual notice of consideration of issuance of amendment, proposed NSHC determination, and opportunity for a hearing.

In circumstances where failure to act in a timely way would have resulted, for example, in derating or shutdown of a nuclear power plant or in prevention of either resumption of operation or of increase in power output up to the plant's licensed power level (an emergency situation), the Commission may not have had an opportunity to provide for public comment on its NSHC determination. In such case, the license amendment has been issued without opportunity for comment prior to issuance. Nonetheless, the State has been consulted by telephone whenever possible.

Under its regulations, the Commission may issue and make an amendment immediately effective, notwithstanding the pendency before it of a request for a hearing from any person, in advance of the holding and completion of any required hearing, where it has determined that NSHC is involved.

For those amendments that involve an emergency situation, the Commission is now providing an opportunity to comment on the final NSHC determination for each action; comments should be submitted in accordance with Section I of this notice within 30 days of the date of this notice. Any comments received within 30 days of the date of publication this notice will be considered.

For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendment satisfies the criteria for categorical exclusion in accordance with 10 CFR 51.22. Therefore, pursuant to 10 CFR 51.22(b), no environmental impact statement or environmental assessment need be prepared for this amendment. If the Commission has prepared an environmental assessment under the special circumstances provision in 10 CFR 51.12(b) and has made a determination based on that assessment, it is so indicated in the safety evaluation for the amendment.

For further details with respect to these actions, see the amendment and associated documents such as the Commission's letter and safety evaluation, which may be obtained using the ADAMS accession numbers indicated in the following table. The safety evaluation will provide the ADAMS accession number(s) for the application for amendment and the Federal Register citation for any environmental assessment. All of these items can be accessed as described in the “Obtaining Information and Submitting Comments” section of this document.

License Amendment Issuance—Emergency Circumstances
Constellation Energy Generation, LLC; Quad Cities Nuclear Power Station, Units 1 and 2; Rock Island County, IL
Docket No(s) | 50-254, 50-265.
Amendment Date | December 17, 2023.
ADAMS Accession No | ML23349A162.
Amendment No(s) | Unit 1—298, Unit 2—294.
Brief Description of Amendment(s) | The amendments revised Technical Specification 3.8.1, “AC [alternating current] Sources-Operating,” Condition B, “One required DG [diesel generator] inoperable,” required action B.4, “Restore required DG to OPERABLE status,” to provide a one-time extension of the completion time from 7 days to 14 days. The amendments also revised surveillance requirements for testing of the Quad Cities Nuclear Power Station, Unit 2 DG and the 1/2 DG during the extended period that the Quad Cities Nuclear Power Station, Unit 1 DG is inoperable.
Local Media Notice (Yes/No) | No.
Public Comments Requested as to Proposed NSHC (Yes/No) | No.

Dated: January 18, 2024.
For the Nuclear Regulatory Commission.
Jamie M. Heisserer,
Deputy Director, Division of Operating Reactor Licensing, Office of Nuclear Reactor Regulation.

[FR Doc. 2024-01255 Filed 1-22-24; 8:45 am]

BILLING CODE 7590-01-P